DEPARTMENT OF ENERGY

Energy Information Administration

Agency Information Collection Extension

AGENCY: U.S. Energy Information Administration (EIA), Department of Energy.

ACTION: Agency information collection activities: Information collection extension, with changes; notice and request for comments.

SUMMARY: EIA, pursuant to the Paperwork Reduction Act of 1995, intends to submit an information collection request for the Petroleum Marketing Program, OMB Control Number 1905-0174, to the Office of Management and Budget (OMB). EIA is requesting a three-year extension to the program and soliciting comments on the proposed changes to Form EIA-182, Form EIA-863, Form EIA-878, Form EIA-888, and Form EIA-877. No changes are proposed for the remaining survey forms that comprise the Petroleum Marketing Program.

DATES: Comments regarding this proposed information collection must be received on or before June 2, 2017. If you anticipate difficulty in submitting comments within that period, contact the person listed in ADDRESSES as soon as possible.

ADDRESSES: Written comments may be sent to Ms. Tammy Heppner, U.S. Department of Energy, U.S. Energy Information Administration, Mail Stop EI-25, Forrestal Building, 1000 Independence Avenue SW., Washington, DC 20585. To ensure receipt of the comments by the due date, submission by email (Tammy.Heppner@eia.gov) is recommended. Alternatively, Ms. Heppner may be contacted by telephone at 202-586-4748.

FOR FURTHER INFORMATION CONTACT: Requests for additional information or copies of the information collection instrument and instructions should be directed to Ms. Tammy Heppner at the contact information listed above. The forms and instructions, along with related information on this clearance package, can be viewed at http://www.eia.gov/survey/notice/marketing2017.cfm.

SUPPLEMENTARY INFORMATION: The Petroleum Marketing Program consists of the following surveys:

• EIA-14, “Refiners' Monthly Cost Report;”

• EIA-182, “Domestic Crude Oil First Purchase Report;”

• EIA-782A, “Refiners'/Gas Plant Operators' Monthly Petroleum Product Sales Report;”

• EIA-782C, “Monthly Report of Prime Supplier Sales of Petroleum Products Sold For Local Consumption;”

• EIA-821, “Annual Fuel Oil and Kerosene Sales Report;”

• EIA-856, “Monthly Foreign Crude Oil Acquisition Report;”

• EIA-863, “Petroleum Product Sales Identification Survey;”

• EIA-877, “Winter Heating Fuels Telephone Survey;”

• EIA-878, “Motor Gasoline Price Survey;”

• EIA-888, “On-Highway Diesel Fuel Price Survey.”

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No. 1905-0174; (2) Information Collection Request Title: Petroleum Marketing Program; (3) Type of Request: Revision of a currently approved collection; (4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. This information is used to assess the adequacy of energy resources to meet near and longer term domestic demands.

EIA, as part of its effort to comply with the Paperwork Reduction Act of 1995 (44 U.S.C. 3501, et seq.), provides the general public and other Federal agencies with opportunities to comment on collections of energy information conducted by or in conjunction with EIA. Also, EIA will later seek approval for this collection by the Office of Management and Budget (OMB) under Section 3507(a) of the Paperwork Reduction Act of 1995.

EIA's petroleum marketing survey forms collect volumetric and price information needed for determining the supply of and demand for crude oil and refined petroleum products. These surveys provide a basic set of data pertaining to the structure, efficiency, and behavior of petroleum markets. These data are published by EIA on its Web site, http://www.eia.gov, as well as in publications such as the Monthly Energy Review (http://www.eia.gov/totalenergy/data/monthly/), Annual Energy Review (http://www.eia.gov/totalenergy/data/annual/), Petroleum Marketing Monthly (http://www.eia.gov/oil_gas/petroleum/data_publications/petroleum_marketing_monthly/pmm.html), Weekly Petroleum Status Report (http://www.eia.gov/oil_gas/petroleum/data_publications/weekly_petroleum_status_report/wpsr.html), and the International Energy Outlook (http://www.eia.gov/forecasts/ieo/); (4a) Proposed Changes to Information Collection:

Form EIA-878: Motor Gasoline Price Survey

EIA is proposing to collect annual sales volumes of motor gasoline by regular, midgrade, and premium grades on Form EIA-878, “Motor Gasoline Price Survey” on a triennial basis. This survey collects weekly retail gasoline prices from a sample of gasoline stations and publishes price estimates at various regional, state, and city levels. EIA is updating its frame of retail gasoline outlets and proposing to re-select the sample of retail outlets using a new sample design. EIA will use annual sales volumes of motor gasoline to determine the measure of size and weights for the new outlets selected to report in the sample. EIA will obtain annual sales volume from corporate offices of suppliers of whole sale and retail gasoline, hypermarkets, and individual station owners in the sample. The new sample will replace the current sample that reports on Form EIA-878. In the alternative, EIA is also considering to eliminate this survey due to budget constraints. In the event this survey is eliminated EIA may utilize third party price data for information on retail gasoline prices. EIA solicits comments on both proposals, to select a new sample using annual retail sales volumes as the sample weights; or discontinue Form EIA-878.

Form EIA-182: Domestic Crude Oil First Purchase Report

EIA is proposing to replace “North Dakota Sweet” crude stream with “North Dakota Bakken” crude stream on Form EIA-182, “Domestic Crude Oil First Purchase Report.” Due to increased crude oil production of the Bakken crude steam, this replacement will provide more accurate price estimates for an important domestic crude stream.

Forms EIA-863, EIA-878, and EIA-888

EIA proposes a permanent change in its statistical confidentiality pledge to respondents to Forms EIA-863, EIA-878, and EIA-888. EIA revised its confidentiality pledge to respondents to Forms EIA-863, EIA-878, and EIA-888 in an emergency Federal Register notice released on January 12, 2017 in 82 FR 3764. These revisions were required by provisions of the Federal Cybersecurity Enhancement Act of 2015 (pub. L. 114-11, Division N. Title II Subtitle B, Sec. 223). This Act, among other provisions, permits and requires DHS to provide Federal civilian agencies' information technology systems with cybersecurity protection for their Internet traffic. Federal statistics provide key information that the Nation uses to measure its performance and make informed choices about budgets, energy, employment, health, investments, taxes, and a host of other significant topics. Strong and trusted confidentiality and exclusively statistical use pledges under the Confidential Information Protection and Statistical Efficiency Act (CIPSEA) and similar statistical confidentiality pledges are effective and necessary in honoring the trust that businesses, individuals, and institutions, by their responses, place in statistical agencies. In this notice EIA proposes to make this change permanent and use the following EIA statistical confidentiality pledge to protect information collected on Forms EIA-863, EIA-878, and EIA-888.

“The information you provide on this survey form will be used for statistical purposes only and is confidential by law. In accordance with the Confidential Information Protection and Statistical Efficiency Act of 2002 and other applicable Federal laws, your responses will not be disclosed in identifiable form without your consent. Per the Federal Cybersecurity Enhancement Act of 2015, Federal information systems are protected from malicious activities through cybersecurity screening of transmitted data. Every EIA employee, as well as every agent, is subject to a jail term, a fine, or both if he or she makes public ANY identifiable information you reported.”

Data reported on Forms EIA-878 and EIA-888 are collected over the telephone. These two surveys have a shorter version of the CIPSEA pledge that is read to the respondent over the telephone. EIA is proposing to permanently modify the pledge provided to respondents over the telephone to read:

The information you provide on Form EIA-xxx will be used for statistical purposes only. Your responses will be kept confidential and will not be disclosed in identifiable form. Per the Federal Cybersecurity Enhancement Act of 2015, Federal information systems are protected from malicious activities through cybersecurity screening of transmitted data. By law, every EIA employee, as well as every agent, is subject to a jail term, a fine, or both if he or she makes public ANY identifiable information you reported.”

EIA-877: Winter Heating Fuels Telephone Survey

EIA is proposing to add annual sales volumes of residential heating oil for statistical estimation purposes. This survey collects annual volumes of propane and residential heating oil and propane prices during the heating season. The accuracy of the price estimates of heating oil will improve by having annual volumes of heating oil as a reliable measure for calculating weighted average point-in-time price estimates. (5) Annual Estimated Number of Respondents: 10,578 Respondents; (6) Annual Estimated Number of Total Responses: 125,490; (7) Annual Estimated Number of Burden Hours: 48,777 hours; (8) Annual Estimated Reporting and Recordkeeping Cost Burden: $3,775,000. The cost of the burden hours is estimated to be $3,592,914 (48,777 burden hours times $73.66 per hour). EIA estimates that there are no additional costs to respondents associated with the surveys other than the costs associated with the burden hours.

Authority: Section 13(b) of the Federal Energy Administration Act of 1974, Pub. L. 93-275, codified as 15 U.S. C. 772(b).

Issued in Washington, DC, on March 15, 2017.
Nanda Srinivasan,
Director, Office of Survey Development and Statistical Integration, U.S. Energy Information Administration.

[FR Doc. 2017-06527 Filed 3-31-17; 8:45 am]

BILLING CODE 6450-01-P